DEPARTMENT OF AGRICULTURE

Farm Service Agency

[Docket ID: FSA-2023-0014]

Information Collection Requests; Disaster Assistance—General (0560-0170); Transfer of Farm Records Between Counties (0560-0253); Customer Data Worksheet Request for Business Partner Record Change (0560-0265)

AGENCY: Farm Service Agency, U.S. Department of Agriculture (USDA).

ACTION: Notice; request for comments.

SUMMARY: In accordance with the Paperwork Reduction Act (PRA) requirement, the Farm Service Agency (FSA) is requesting comments from all interested individuals and organizations on the three Farm Programs' information collection requests. The three collection requests in the Farm Programs are: Disaster Assistance—General (0560-0170), Transfer of Records between Counties (0560-0253) and Customer Data Worksheet Request for Business Partner Record (0560-0265). In the Disaster Assistance—General, the information collection is needed to identify disaster areas and establish eligibility for both primary disaster counties and those counties contiguous to such disaster counties for assistance from FSA. This assistance includes FSA emergency loans which are available to eligible and qualified farmers and ranchers. In the Customer Data Worksheet Request for Business Partner Record, FSA is using the collected information in support of documenting critical producer data (for example, customer name, current mailing address, tax identification number) made at the request of the producer to obtain, correct or update their information. In the Transfer of Records Between Counties, FSA is using the collected information to approve or disapprove the transfer of farm records from one FSA county office to another.

DATES: We will consider comments that we receive by October 30, 2023.

ADDRESSES: We invite you to submit comments in response to this notice. FSA prefers that the comments are submitted electronically through the Federal eRulemaking Portal, identified by Docket ID No. FSA-2023-0014, go to http://www.regulations.gov and search for docket ID FSA-2023-0014. Follow the online instructions for submitting comments. All comments received will be posted without change and made publicly available on www.regulations.gov.

FOR FURTHER INFORMATION CONTACT: For specific questions related to the collection activities or to obtain a copy of the information collection request: For the Disaster Assistance, please contact Helen Mathew, (202) 720-9878; helen.mathew@usda.gov; for the Customer Data Worksheet Request for Business Partner Record Change, and the Transfers of Records between Counties, please contact Tyler Gilkey, 402-437-5895, tyler.gilkey@usda.gov. Individuals who require alternative means for communication should contact the USDA TARGET Center at (202) 720-2600 (voice and text telephone (TTY)) or dial 711 for Telecommunications Relay service (both voice and text telephone users can initiate this call from any telephone).

SUPPLEMENTARY INFORMATION:

Title: Disaster Assistance—General.

OMB Control Number: 0560-0170.

Expiration Date: December 31, 2023.

Type of Request: Extension.

Abstract: The information collection is necessary for FSA to effectively administer the regulations related to identifying those disaster areas that are eligible for the purpose of making emergency loans. This program is available to qualified and eligible farmers and ranchers who have suffered weather-related physical or production losses or both in such areas. Before emergency loans can become available, the information needs to be collected to determine if the disaster areas meet the criteria of having a qualifying loss in order to be considered as an eligible county.

There are no changes to the burden hours since the last OMB submission. For the following estimated total annual burden on respondents, the formula used to calculate the total burden hours is the estimated average time per response multiplied by the estimated total annual responses.

Estimate of Average Time to Respond: Public reporting burden for the information collection is estimated to average 0.477 hours per response.

Type of Respondents: Individuals or households, businesses or other for-profit farms.

Estimated Annual Number of Respondents: 1,312.

Estimated Number of Reponses per Respondent: 1.

Estimated Total Annual Responses: 1,312.

Estimated Total Annual Burden on Respondents: 626.

Title: Transfer of Farm Records between Counties.

OMB Control Number: 0560-0253.

Expiration Date: December 31, 2023.

Type of Request: Revision.

Abstract: Farm owners or operators may request to transfer farm records between FSA county offices under certain circumstances, which may include:

• A change has occurred in the operation of the land; or

• there has been a change that would cause the receiving county office to be more accessible, including, but not limited to, the construction of a new highway, relocation of the county office building site; or

• when an FSA county office closes.

FSA County Committees from both the transferring and receiving counties must approve or disapprove all proposed farm record transfers. If the FSA County Committee is not able to approve the request based on one of the criteria in 7 CFR 718.8, then the State Committee would need to submit an exception request to the Deputy Administrator for Farm Programs. The number of respondents and responses decreased by 13,701 while the burden hours decreased by 2,334 hours. The number of requests has decreased, likely in part due to the advancement of nationwide customer service and alignment of many farm programs to be based on physical location rather than administrative county. For the following estimated total annual burden on respondents, the formula used to calculate the total burden hours is the estimated average time per response multiplied by the estimated total annual responses.

Estimated Respondent Burden: Public reporting burden for this collection of information is estimated to average 0.16 hours per response.

Type of Respondents: Owners and operators.

Estimated Number of Respondents: 7,539.

Estimated Number of Responses per Respondent: 1.

Estimated Total Annual Number of Responses: 7,539.

Estimated Total Annual Burden on Respondents: 1,206 hours.

Title: Customer Data Worksheet Request for Business Partner Record Change.

OMB Control Number: 0560-0265.

Expiration Date: December 31, 2023.

Type of Request: Revision.

Abstract: The information collection is necessary to effectively monitor critical producer data (for example, customer name, current mailing address and tax identification number) made at the request of the producer to provide, correct or update their information. The form AD-2047, Customer Data Worksheet Request for Business Partner Record, is used to collect the information from the producer to input or make changes to the information. The critical producer data are also being used to update existing producer record data and document when and who initiates and changes the record. FSA, Natural Resource Conservation Service (NRCS) and other USDA Agencies use the Business Partner database to maintain and manage their respective customer data. The necessity to monitor critical producer data in the Business Partner database was a direct result of the OMB Circular A-123 Remediation/Corrective Action Plan for County Office Operations which requires effective internal controls to be in place for Federal programs. FSA team was established and reviewed and documented key controls related to all material producer accounts. FSA also included the analysis on a review of record. The number of respondents increased by 51,476 to account for additional customers due to additional USDA agencies. The average time per response is 3 minutes for the form of AD-2047. The burden hours increased by 2,674 in the request due to the increase in customer records added since the last OMB approval. For the following estimated total annual burden on respondents, the formula used to calculate the total burden hours is the estimated average time per response multiplied by the estimated total annual responses.

Estimated Respondent Burden: Public reporting burden for this collection of information is estimated to average 0.05 hours per response.

Type of Respondents: FSA, NRCS, AMS, and RD customers currently residing in the Business Partner database.

Estimated Number of Respondents: 161,250.

Estimated Number of Responses per Respondent: 1.

Estimated Total Annual Number of Responses: 161,250.

Estimated Total Annual Burden on Respondents: 8,063 hours.

FSA is requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including using appropriate automated, electronic, mechanical, or other technological collection techniques or other forms of information technology.

All comments received in response to this notice, including names and addresses when provided, will be a matter of public record. Comments will be summarized and included in the submission for Office of Management and Budget approval.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Steven Peterson,
Acting Administrator, Farm Service Agency.

[FR Doc. 2023-18828 Filed 8-30-23; 8:45 am]

BILLING CODE 3410-E2-P